DEPARTMENT OF DEFENSE

Department of the Army

[Docket ID USA-2013-0008]

Privacy Act of 1974; System of Records

AGENCY: Department of the Army, DoD.

ACTION: Notice to reinstate four Systems of Records.

SUMMARY: The Department of the Army proposes to reinstate four system of records to its inventory of record systems to the Privacy Act of 1974 (5 U.S.C. 552a), as amended. After review, it has been determined that the records covered under these previously deleted notices were erroneously deleted; therefore these notices are being reinstated. A0210-190 AHRC was published on March 7, 2012 (77 FR 13571-13573). A0600-8-23 AHRC, A0601-210 AHRC, and A0614-200 AHRC were published on March 7, 2012 (77 FR 13573-13574).

DATES: This proposed action will be effective on June 3, 2013 unless comments are received which result in a contrary determination. Comments will be accepted on or before June 3, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army system of records notices subject to the Privacy Act of 1974 (5 U.S.C. 552a), as amended, have been published in the Federal Register and are available from the address in FOR FURTHER INFORMATION CONTACT.

The Department of the Army proposes to reinstate four system of records to its inventory of records systems subject to the Privacy Act of 1974 (5 U.S.C. 552a), as amended. The previous system of records notice is being republished in its entirety, below. The reinstatements are not within the purview of subsection of the Privacy Act of 1974 (5 U.S.C. 552a), as amended, which requires the submission of a new or altered system report.

Dated: April 30, 2013.
Aaron Siegel,
Alternate OSD Federal Register Liaison Officer, Department of Defense.

A0210-190 AHRC

System name:

Individual Gravesite Interment Files.

System location:

Commander, U.S. Army Human Resources Command, ATTN: AHRC-PED-A, 2461 Eisenhower Avenue, Alexandria, VA 22331-0482 for Army post cemeteries and at Army installations.

Categories of individuals covered by the system:

Active and former Armed Forces personnel and their dependents who are or will be interred in grave plots in Army post cemeteries or who reserved grave plots prior to 1975.

Categories of records in the system:

Gravesite record of interment (DA Forms 2122 and 2123); reservations prior to 1961; deceased individuals' name, address, date of birth, date of death, and section of grave reserved or interred in, military service, or dependent name and the relationship to service member.

Authority for maintenance of the system:

10 U.S.C. 3013, Secretary of the Army.

Purpose(s):

To maintain records of individuals interred in Army post cemeteries; to conduct periodic surveys to determine validity of reservations; and to respond to inquiries.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the Department of Veteran Affairs for the purposes of issuing a government headstone.

The DoD Blanket Routine Uses set forth at the beginning of the Army's compilation of systems of records notices also apply to this system.

Policies and practices for storing, retrieving, accessing, retaining, and disposing of records in the system:

Storage:

Paper records in file folders.

Retrievability:

By individual's surname.

Safeguards:

Records are maintained in areas accessible only to authorized personnel having official need therefore in the performance of their duties. Records are kept in secure office areas in a secure building.

Retention and disposal:

Permanent.

System manager(s) and address:

Commander, U.S. Army Human Resources Command, ATTN: AHRC-PED-A, 2461 Eisenhower Avenue, Alexandria, VA 23321-0482 for Army post cemeteries.

Notification procedure:

Individuals seeking to determine whether information about themselves is contained in this records system should address written inquiries to the Commander, U.S. Army Human Resources Command, ATTN: AHRC-PED-A, 2461 Eisenhower Avenue, Alexandria, VA 23321-0482.

Individual should provide full name of veteran, or deceased individual's name and sufficient details to permit locating pertinent records and signature.

Record access procedures:

Individuals seeking access to information about themselves contained in this system should address written inquiries to the Commander, U.S. Army Human Resources Command, ATTN: AHRC-PED-A, 2461 Eisenhower Avenue, Alexandria, VA 23321-0482.

Individual should provide full name of veteran, or deceased individual's name and sufficient details to permit locating pertinent records and signature.

Contesting record procedures:

The Army's rules for accessing records, contesting contents, and appealing initial agency determinations are contained in Army Regulation 340-21; 32 CFR part 505; or may be obtained from the system manager.

Record source categories:

From the individual, his/her representative or next-of-kin; Army records and reports.

Exemptions claimed for the system:

None.

A0601-210 AHRC

System name:

Eligibility Determination Files.

System location:

U.S. Army Human Resources Command, Non-Commissioned Officer In Charge of Eligibility Inquiries Section, 2461 Eisenhower Avenue, Alexandria, VA 22331-0450.

Categories of individuals covered by the system:

Applicants for enlistment who require a waiver for an adult felony; soldiers requesting continuation on active duty who require waiver for certain disqualifications.

Categories of records in the system:

File contains requests for enlistment eligibility or waiver of disqualifications for enlistment/reenlistment, requests for grade determination, documents reflecting determinations made thereon, copies or extracted items from basic records, transmittals, and suspense documents needed to assure that requests are acted upon in a timely manner.

Authority for maintenance of the system:

10 U.S.C. 504, Persons not Qualified; 10 U.S.C. 3013, Secretary of the Army; Army Regulation 601-210, Regular Army and Army Reserve Enlisted Program; Army Regulation 635-200, Enlisted Personnel; Army Regulation 601-280, Army Retention Program and E.O. 9397 (SSN), as amended.

Purpose(s):

To evaluate waiver requests, determine appropriate action and render decision.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices also apply to this system.

Policies and practices for storing, retrieving, accessing, retaining and disposing of records in the system:

Storage:

Paper records in file folders and on electronic storage media.

Retrievability:

By SSN and surname.

Safeguards:

Records are maintained in areas accessible only to properly cleared, trained, and authorized personnel. Records are in a secure office in a secure building.

Retention and disposal:

Enlisted eligibility records are destroyed upon reenlistment of individual. Inquiry records and other related documents are maintained for 7 years then destroyed.

System manager(s) and address:

Commander, U.S. Army Human Resources Command, 2461 Eisenhower Avenue, Alexandria, VA 22332-0400.

Notification procedure:

Individuals seeking to determine if information about themselves is contained in this records system should address written inquiries to the U.S. Army Human Resources Command, Eligibility Inquiries Section, Retention Management Division, Enlistment Personnel Management Directorate, 2461 Eisenhower Avenue, Alexandria, VA 22331-0451.

Individual should provide the full name, SSN, date of separation and service component, if applicable, current address and telephone number, and signature.

Record access procedures:

Individuals seeking access to records about themselves contained in this record system should address written inquiries to the U.S. Army Human Resources Command, Eligibility Inquiries Section, Retention Management Division, Enlistment Personnel Management Directorate, 2461 Eisenhower Avenue, Alexandria, VA 22331-0451.

Individual should provide the full name, SSN, date of separation and service component, if applicable, current address and telephone number, and signature.

Contesting record procedures:

The Army's rule for accessing records, and for contesting contents and appealing initial agency determinations are contained in Army Regulation 340-21; 32 CFR part 505; or may be obtained from the system manager.

Record source categories:

From the individual, official military personnel records; investigative/security dossiers; medical evaluations; Army records and reports.

Exemptions claimed for the system:

None.

A0614-200 AHRC

System name:

Classification and Reclassification of Soldiers.

System location:

U.S. Army Human Resources Command, Reclassification Management Branch, 2461 Eisenhower Avenue, Alexandria, VA 22331-0400.

Categories of individuals covered by the system:

Active duty Army, Army National Guard and U.S. Army Reserve enlisted members on active duty.

Categories of records in the system:

File contains name, Social Security Number (SSN), grade, military occupational specialty (MOS), additional information substantiating the soldier's or Army's request for exception to or interpretation of regulatory guidance for the classification, reclassification or utilization of soldiers, Personnel Actions Request, Enlisted Records Brief, MOS and Medical retention board documents and other related documents.

Authority for maintenance of the system:

10 U.S.C. 3013, Secretary of the Army; Army Regulation 614-200, Enlisted Assignments and Utilization Management; and E.O. 9397 (SSN), as amended.

Purpose(s):

To perform the objective of maintaining a balance of authorization versus requirements by military occupational specialty within each career management field.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices also apply to this system.

Policies and practices for storing, retrieving, accessing, retaining and disposing of records in the system:

Storage:

Paper records in file folders and electronic storage media.

Retrievability:

By individual's SSN and surname.

Safeguards:

Records are accessed only by designated officials having official need therefore in the performance of official duties. Records are kept in file cabinets in locked rooms. Building housing records are protected by security guards.

Retention and disposal:

MOS classification board proceeding documents and related information maintain for 2 years then destroy.

System manager(s) and address:

Commander, U.S. Army Human Resources Command, Reclassification Management Branch, 2461 Eisenhower Avenue, Alexandria, VA 22331-0400.

Notification procedure:

Individuals seeking to determine if information about themselves is contained in this record system should address written inquiries to the Commander, U.S. Army Human Resources Command, Public Affairs Office, Freedom of Information Act and Privacy Act, 200 Stovall Street, Alexandria, VA 22332-0400.

Individual should provide the full name, SSN, current address, and signature.

Record access procedures:

Individuals seeking access to records about themselves contained in this record system should address written inquiries to the Commander, U.S. Army Human Resources Command, Public Affairs Office, Freedom of Information Act and Privacy Act, 200 Stovall Street, Alexandria, VA 22332-0400.

Individual should provide the full name, SSN, current address, and signature.

Contesting record procedures:

The Army's rules for accessing records, and for contesting contents and appealing initial agency determinations are contained in Army Regulation 340-21; 32 CFR part 505; or may be obtained from the system manager.

Record source categories:

From the individual, Army personnel records and reports, and automated personnel systems.

Exemptions claimed for the system:

None.

A0600-8-23 AHRC

System name:

Standard Installation/Division Personnel System (SIDPERS).

System location:

National Guard records are located at the Army National Guard Readiness Center, 111 South George Mason Drive, Arlington, VA 22204-1382. Reserve Component records are located at the U.S. Army Human Resources Command, 9700 Page Boulevard, St. Louis, MO 63132-5200. Regular Army records are located at the Army Information Processing Centers located in Chambersburg, PA 17201-4150; Huntsville, AL 35898-7340; Rock Island, IL 61299-7210; and St. Louis, MO 63120-1798.

Categories of individuals covered by the system:

All active duty Army personnel, personnel attached from National Guard and/or Army reserve members of the Army National Guard, individuals currently assigned to a U.S. Army Reserve unit, and family members.

Categories of records in the system:

Name, Social Security Number (SSN), home address, sex, race, citizenship, status, religious denomination, marital status, number of dependents, date of birth, physical profile, ethnic group, grade and date of rank, term of service for enlisted personnel, security clearance, service agreement for non-regular officers, promotion data and dates, special pay and bonus, unit of assignment and identification code, military occupational specialty, civilian occupation, additional skill identifiers, civilian and military education levels, languages, military qualification, assignment eligibility, availability and termination date thereof, security status, suspension of favorable personnel action indicator, Privacy Act disputed record indicator, and similar relevant data.

Authority for maintenance of the system:

10 U.S.C. 3013, Secretary of the Army; Army Regulation 600-8-23, Standard Installation/Division Personnel System Database Management; and E.O. 9397(SSN), as amended.

Purpose(s):

To support personnel management decisions concerning the selection, distribution and utilization of all personnel in military duties, strength accounting and manpower management, promotions, demotions, transfers, and other personnel actions essential to unit readiness; to identify and fulfill training needs; and to support automated interfaces with authorized information systems for pay, mobilization, and other statistical reports.

Routine uses of records maintained in the system, including categories of users and the purpose of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices also apply to this system.

Policies and practices for storing, retrieving, accessing, retaining, and disposing of records in the system:

Storage:

Electronic storage media.

Retrievability:

By Name, SSN, or other individually identifying characteristics.

Safeguards:

Access to data and data storage is controlled and accessible only to authorized personnel and authorized personnel with password capability for the electronic media access.

Retention and disposal:

Records are maintained one year in records holding area or current file area then retired to National Personnel Records Center and maintained there for 75 years then destroyed.

System manager(s) and address:

National Guard: Chief, National Guard Bureau, Army National Guard Readiness Center, 111 South George Mason Drive, Arlington, VA 22204-1382. Reserve Component: Deputy Chief of Staff for Personnel, Headquarters, Department of the Army, 300 Army Pentagon, Washington, DC 20310-0300. Regular Army: Commander, U.S. Army Human Resources Command, 200 Stovall Street, Alexandria, VA 22332-0400.

Notification procedure:

Individuals seeking to determine whether information about themselves is contained in this system should address written inquiries to the appropriate address below: National Guard individuals should address inquiries to the National Guard Bureau, Army National Guard Readiness Center, 111 South George Mason Drive, Arlington, VA 22204-1382. Reserve individuals should address inquiries to the Commander of the Army Headquarters in which the unit is located. Regular Army individuals should address inquiries to their local Commander.

All individuals should furnish full name, service identification number, current address and telephone number, signature, and specific information concerning the event or incident that will assist in locating the record. Personal visits may be made. Individual must furnish proof of identity.

Record access procedures:

Individuals seeking to access information about themselves contained in this system should address written inquiries to the appropriate address below: National Guard individuals should address inquiries to the National Guard Bureau, Army National Guard Readiness Center, 111 South George Mason Drive, Arlington, VA 22204-1382. Reserve individuals should address inquiries to the Commander of the Army Headquarters in which the unit is located. Regular Army individuals should address inquiries to their local Commander.

All individuals should furnish full name, service identification number, current address and telephone number, signature, and specific information concerning the event or incident that will assist in locating the record. Personal visits may be made. Individual must furnish proof of identity.

Contesting record procedures:

The Army's rules for accessing records, and for contesting contents and appealing initial agency determinations are contained in Army Regulation 340-21; 32 CFR part 505; or may be obtained from the system manager.

Record source categories:

National Guard and Reserve Component: From the individual, individual's personnel and pay files, from the Defense Enrollment Eligibility Reporting (DEERS) database, and other Army records and reports. Regular Army: From individual, commanders, Army records and documents, other Federal agencies.

Exemptions claimed for the system:

None.

[FR Doc. 2013-10534 Filed 5-2-13; 8:45 am]

BILLING CODE 5001-06-P